DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of Health and Human Services is named as the respondent in all proceedings brought by the filing of petitions for compensation under the program, the United States Court of Federal Claims is charged by statute with responsibility for considering and acting upon the petitions.

FOR FURTHER INFORMATION CONTACT: For information about requirements for filing petitions, and the program in general, contact Lisa L. Reyes, Acting Clerk, United States Court of Federal Claims, 717 Madison Place NW., Washington, DC 20005, (202) 357-6400. For information on HRSA's role in the Program, contact the Director, National Vaccine Injury Compensation Program, 5600 Fishers Lane, Room 08N146B, Rockville, MD 20857; (301) 443-6593, or visit our Web site at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2017, through October 31, 2017. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the Program.

Dated: November 21, 2017.
George Sigounas,
Administrator.

List of Petitions Filed

1. Connie Fong, San Mateo, California, Court of Federal Claims No: 17-1400V

2. Matthew McDermott, Babylon, New York, Court of Federal Claims No: 17-1401V

3. Marcella Boettcher, Pittsburg, Kansas, Court of Federal Claims No: 17-1402V

4. Alice Rhee, San Antonio, Texas, Court of Federal Claims No: 17-1403V

5. Julie K. Beyers, Indianapolis, Indiana, Court of Federal Claims No: 17-1406V

6. Deborah Kay Tomlin, Richmond, Virginia, Court of Federal Claims No: 17-1410V

7. Debra Sepulveda, Portland, Maine, Court of Federal Claims No: 17-1412V

8. Cynthia Levin, Orange, Virginia, Court of Federal Claims No: 17-1413V

9. Charles Thompson, North Fort Myers, Florida, Court of Federal Claims No: 17-1414V

10. Samuel Kazery, Fayetteville, Arkansas, Court of Federal Claims No: 17-1415V

11. Julie Nicholson, Lynchburg, Virginia, Court of Federal Claims No: 17-1416V

12. Keith Noe and Carol Langley on behalf of J. J. N., Brockton, Massachusetts, Court of Federal Claims No: 17-1418V

13. Mitchell Godfrey, Bozeman, Montana, Court of Federal Claims No: 17-1419V

14. Audrea Dale, Raleigh, North Carolina, Court of Federal Claims No: 17-1420V

15. Amy Capesius, Broomfield, Colorado, Court of Federal Claims No: 17-1421V

16. Wanda E. Evin, Fargo, North Dakota, Court of Federal Claims No: 17-1422V

17. Cindy Kissler, Milwaukee, Wisconsin, Court of Federal Claims No: 17-1425V

18. Lindsey Lally, San Francisco, California, Court of Federal Claims No: 17-1426V

19. Virginie Bridges, Charlotte, North Carolina, Court of Federal Claims No: 17-1429V

20. Scott A. Youngmark, Waupun, Wisconsin, Court of Federal Claims No: 17-1431V

21. Mary Tennesen, St. Louis, Missouri, Court of Federal Claims No: 17-1441V

22. Bita Fotuhi, Baltimore, Maryland, Court of Federal Claims No: 17-1442V

23. Samuel J. LaBine, St. Cloud, Minnesota, Court of Federal Claims No: 17-1443V

24. Michael Pollio, Staten Island, New York, Court of Federal Claims No: 17-1444V

25. Paul Gallagher on behalf of R. G., South Hadley, Massachusetts, Court of Federal Claims No: 17-1445V

26. Kyle Anderson, Killeen, Texas, Court of Federal Claims No: 17-1452V

27. Ginger Pahos, Minneapolis, Minnesota, Court of Federal Claims No: 17-1455V

28. April J. Barr, Nashville, Indiana, Court of Federal Claims No: 17-1462V

29. Genevieve Mergen-Barret, Coconut Creek, Florida, Court of Federal Claims No: 17-1463V

30. Robert Nemmer, Salt Lake City, Utah, Court of Federal Claims No: 17-1464V

31. Bangone Thirakul, San Diego, California, Court of Federal Claims No: 17-1465V

32. Sandra Sneathen, Charlevoix, Michigan, Court of Federal Claims No: 17-1466V

33. Leslee Moran, Fremont, New Hampshire, Court of Federal Claims No: 17-1467V

34. Purna Kami, Columbus, Ohio, Court of Federal Claims No: 17-1468V

35. Ramon Cuevas, Boston, Massachusetts, Court of Federal Claims No: 17-1469V

36. Rebecca Eugley, Oxford, Maine, Court of Federal Claims No: 17-1470V

37. Patricia Piazza, Brick, New Jersey, Court of Federal Claims No: 17-1471V

38. Olwen Dowling, Florence, Massachusetts, Court of Federal Claims No: 17-1472V

39. Kay Lynne Klotz, Martinsburg, Pennsylvania, Court of Federal Claims No: 17-1473V

40. Lucita Singleton, Shelbyville, Tennessee, Court of Federal Claims No: 17-1474V

41. Katherine Kelly, Celebration, Florida, Court of Federal Claims No: 17-1475V

42. Deborah Miller on behalf of A. M., Ithaca, New York, Court of Federal Claims No: 17-1476V

43. Kathleen Mosley, Oklahoma City, Oklahoma, Court of Federal Claims No: 17-1477V

44. Sean McLoughlin on behalf of John McLoughlin, Summit, New Jersey, Court of Federal Claims No: 17-1478V

45. Angelina Cavallo and Matthew Polanco on behalf of M. P., Paterson, New Jersey, Court of Federal Claims No: 17-1479V

46. Frances MacCormack, Somerset, New Jersey, Court of Federal Claims No: 17-1482V

47. Bryan Kitt, West Bend, Wisconsin, Court of Federal Claims No: 17-1483V

48. Ann Pelelo on behalf of T. P., Dubuque, Iowa, Court of Federal Claims No: 17-1485V

49. Linda Jones, Springfield, Missouri, Court of Federal Claims No: 17-1486V

50. Hector Baez, Baxley, Georgia, Court of Federal Claims No: 17-1488V

51. Elmer J. George on behalf of James C. McMurtry, Lebanon, Kentucky, Court of Federal Claims No: 17-1489V

52. Damaris Shaffer Miltenberger, Carbondale, Illinois, Court of Federal Claims No: 17-1491V

53. Angela B. Cooper, Pittsburgh, Pennsylvania, Court of Federal Claims No: 17-1493V

54. Jessica Watts, Indianapolis, Indiana, Court of Federal Claims No: 17-1494V

55. Kevin R. Danchik, Pittsburgh, Pennsylvania, Court of Federal Claims No: 17-1495V

56. Jan Skugstad, Minneapolis, Minnesota, Court of Federal Claims No: 17-1497V

57. Laurie Ann Minns, Corvallis, Montana, Court of Federal Claims No: 17-1499V

58. Marlena Carrillo on behalf of K. C., Phoenix, Arizona, Court of Federal Claims No: 17-1500V

59. Gary Foster, Conway, Arkansas, Court of Federal Claims No: 17-1502V

60. Clifford Schneider, Naples, Florida, Court of Federal Claims No: 17-1504V

61. Melba L. Callaway, Pittsburgh, Pennsylvania, Court of Federal Claims No: 17-1506V

62. Donald Jackson, Stafford, Virginia, Court of Federal Claims No: 17-1508V

63. Stephanie Walker, Poplar Bluff, Missouri, Court of Federal Claims No: 17-1509V

64. Karen Falconio, Langhorne, Pennsylvania, Court of Federal Claims No: 17-1510V

65. Robin Lara Camacho Keja, Harrisburg, Pennsylvania, Court of Federal Claims No: 17-1511V

66. Rafael D. Leal, Houston, Texas, Court of Federal Claims No: 17-1513V

67. Tawnya Montano, Murray, Utah, Court of Federal Claims No: 17-1526V

68. Ruth Nortey, Tulsa, Oklahoma, Court of Federal Claims No: 17-1527V

69. Ryan Thompson, Washington, District of Columbia, Court of Federal Claims No: 17-1529V

70. Ryan M. Schmidt, Ooltewah, Tennessee, Court of Federal Claims No: 17-1530V

71. Donna Wissbaum, Montello, Wisconsin, Court of Federal Claims No: 17-1531V

72. Latoya Christie on behalf of P. A., Wellesley Hills, Massachusetts, Court of Federal Claims No: 17-1532V

73. Connie Rainbolt, Torrington, Wyoming, Court of Federal Claims No: 17-1533V

74. John G. Rima, North Bend, Washington, Court of Federal Claims No: 17-1534V

75. Samantha Rivera and Timur Rivera on behalf of S. R., Beverly Hills, California, Court of Federal Claims No: 17-1535V

76. Stacy Hendrick, Hampton, Virginia, Court of Federal Claims No: 17-1536V

77. Sheila Harshaw, Van Nuys, California, Court of Federal Claims No: 17-1537V

78. Quinton Kapper, Greenwich, New York, Court of Federal Claims No: 17-1538V

79. Melani DePetro, Boston, Massachusetts, Court of Federal Claims No: 17-1539V

80. Paul L. Cooper, Arlington, Virginia, Court of Federal Claims No: 17-1541V

81. Shannon Mercer, Springboro, Ohio, Court of Federal Claims No: 17-1544V

82. Timothy Biery, Goodlettsville, Tennessee, Court of Federal Claims No: 17-1546V

83. Melanie Machado, Tacoma, Washington, Court of Federal Claims No: 17-1547V

84. Joyce Lineberger, Matthews, North Carolina, Court of Federal Claims No: 17-1548V

85. Suzanne Schaffer, San Diego, California, Court of Federal Claims No: 17-1550V

86. Robert David Dupach-Carron and Elizabeth Joanna Carron on behalf of A. R. D-C., Nassau, Bahamas, Court of Federal Claims No: 17-1551V

87. Audrey Walton, Bozeman, Montana, Court of Federal Claims No: 17-1552V

88. Clark Elaine, Salem, New Hampshire, Court of Federal Claims No: 17-1553V

89. Frances Labonte, Boston, Massachusetts, Court of Federal Claims No: 17-1554V

90. Robin Cooley, Louisville, Colorado, Court of Federal Claims No: 17-1556V

91. Cheyenne Whitesell on behalf of M. W., Deceased, Piermont, New York, Court of Federal Claims No: 17-1557V

92. Sarah D. Geschwindner, Concord, New Hampshire, Court of Federal Claims No: 17-1558V

93. Timothy Werner Boothe, San Jose, California, Court of Federal Claims No: 17-1560V

94. Louise Gartner on behalf of Anthony J. Gartner, Jr., Deceased, St. Peters, Missouri, Court of Federal Claims No: 17-1561V

95. Rosalie Helen Pedersen, Pine Bush, New York, Court of Federal Claims No: 17-1562V

96. Patricia Richards, Loganville, Georgia, Court of Federal Claims No: 17-1563V

97. Peggy W. Vice on behalf of Michael Louie Vice, Deceased, Southside, Alabama, Court of Federal Claims No: 17-1568V

98. James Gudaitis, San Mateo, California, Court of Federal Claims No: 17-1570V

99. Michael Braun on behalf of Heath Braun, Dover, New Jersey, Court of Federal Claims No: 17-1571V

100. Deanne A. Graf, Rice Lake, Wisconsin, Court of Federal Claims No: 17-1572V

101. Gary L. Larson, Portland, Oregon, Court of Federal Claims No: 17-1573V

102. Ibironke Akintaju, Clinton, Maryland, Court of Federal Claims No: 17-1574V

103. Kathleen Smith, Norwalk, Connecticut, Court of Federal Claims No: 17-1575V

104. Joseph Spataro, Fairfield, Connecticut, Court of Federal Claims No: 17-1576V

105. Gayle Randall, Armuchee, Georgia, Court of Federal Claims No: 17-1579V

106. Jessica Harding, Corvallis, Oregon, Court of Federal Claims No: 17-1580V

107. Jose Monsalvez, Houston, Texas, Court of Federal Claims No: 17-1583V

108. Minnie Bullock, Bowling Green, Kentucky, Court of Federal Claims No: 17-1584V

109. Susan Pierce, Seattle, Washington, Court of Federal Claims No: 17-1585V

110. Anthony Rucker, Winter Haven, Florida, Court of Federal Claims No: 17-1586V

111. Janice Berkow, Lenoir, North Carolina, Court of Federal Claims No: 17-1587V

112. Melinda Porter, Oklahoma City, Oklahoma, Court of Federal Claims No: 17-1589V

113. Kurt Rhodes, Grand Rapids, Michigan, Court of Federal Claims No: 17-1590V

114. Bruchy Schik, Brooklyn, New York, Court of Federal Claims No: 17-1591V

115. Barbara Van Esler, St. Louis, Missouri, Court of Federal Claims No: 17-1592V

116. Mary Guler, North Myrtle Beach, South Carolina, Court of Federal Claims No: 17-1593V

117. Robert Robinson, Fort Pierce, Florida, Court of Federal Claims No: 17-1594V

118. Rachael Anne Witherspoon, New Orleans, Louisiana, Court of Federal Claims No: 17-1595V

119. Richard Hirsch, Delray Beach, Florida, Court of Federal Claims No: 17-1596V

120. Judith Tucker, Tarrytown, New York, Court of Federal Claims No: 17-1597V

121. Carrie Gregory, South Kingstown, Rhode Island, Court of Federal Claims No: 17-1599V

122. Mark Ferrara, Fayetteville, Georgia, Court of Federal Claims No: 17-1601V

123. Sandra Sundlov, Jamestown, New York, Court of Federal Claims No: 17-1603V

124. Terri E. Scarbro, Great Falls, Montana, Court of Federal Claims No: 17-1604V

125. Robin Hamlin, Holly Hill, Florida, Court of Federal Claims No: 17-1606V

126. Donna Martin, St. Petersburg, Pennsylvania, Court of Federal Claims No: 17-1607V

127. Gayle Kligis, Aurora, Illinois, Court of Federal Claims No: 17-1608V

128. Joan Creech, Zebulon, North Carolina, Court of Federal Claims No: 17-1609V

129. Georgiana McKenzie, Dorchester, Massachusetts, Court of Federal Claims No: 17-1610V

130. Sheree Garrett, Dallas, Texas, Court of Federal Claims No: 17-1611V

131. Ninnart Changkiendee, South Jordan, Utah, Court of Federal Claims No: 17-1612V

132. Richard Denham, Franklin, Tennessee, Court of Federal Claims No: 17-1613V

133. Margaret Parsons, Faribault, Minnesota, Court of Federal Claims No: 17-1615V

134. Stacy James-Cornelius on behalf of E. J., Phoenix, Arizona, Court of Federal Claims No: 17-1616V

135. Joyce Carter, Bethel Park, Pennsylvania, Court of Federal Claims No: 17-1617V

136. Erica Livingston, Englewood, New Jersey, Court of Federal Claims No: 17-1619V

137. Walter C. Jones, Jr., Mukilteo, Washington, Court of Federal Claims No: 17-1620V

138. Antonio Katz, Ocean City, New Jersey, Court of Federal Claims No: 17-1621V

139. Lisa Guerrero, Boston, Massachusetts, Court of Federal Claims No: 17-1624V

140. Timothy A. Thatcher, Boise, Idaho, Court of Federal Claims No: 17-1628V

141. Kenneth Niemczyk, West Lebanon, New Hampshire, Court of Federal Claims No: 17-1629V

142. Lisa Laimer, Moreno Valley, California, Court of Federal Claims No: 17-1630V

143. Cheryl Gibbs, New Orleans, Louisiana, Court of Federal Claims No: 17-1632V

144. Rhonda Meade, Kingsport, Tennessee, Court of Federal Claims No: 17-1633V

145. Marina Vidal, Annandale, Virginia, Court of Federal Claims No: 17-1635V

146. Bassam Al Saddawi, Laguna Nigel, California, Court of Federal Claims No: 17-1640V

147. Rosemary Morgan-Lee, Dresher, Pennsylvania, Court of Federal Claims No: 17-1641V

148. Tonya Hood, Rocky Mount, North Carolina, Court of Federal Claims No: 17-1642V

149. Darlene Lopez, Englewood, New Jersey, Court of Federal Claims No: 17-1643V

150. Cynthia Quinn, Hammond, Louisiana, Court of Federal Claims No: 17-1644V

[FR Doc. 2017-25817 Filed 11-29-17; 8:45 am]

BILLING CODE 4165-15-P